DEPARTMENT OF ENERGY

Federal Energy Regulatory Commission

[Docket No. IC17-4-000]

Commission Information Collection Activities (FERC-521); Comment Request

Correction

Notice document 2017-11760, appearing on pages 26476-26477, in the Issue of Wednesday, June 7, 2017, was inadvertently published and is withdrawn from that Issue.

[FR Doc. C1-2017-11760 Filed 6-9-17; 11:15 am]

BILLING CODE 1301-01-D